DEPARTMENT OF JUSTICE

Antitrust Division

Notice Pursuant to the National Cooperative Research and Production Act of 1993—Undersea Technology Innovation Consortium

Notice is hereby given that, on October 9, 2018, pursuant to Section 6(a) of the National Cooperative Research and Production Act of 1993, 15 U.S.C. 4301 et seq. (“the Act”), Undersea Technology Innovation Consortium (“UTIC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 6Fathoms Consulting LLC, Austin, TX; Adolf Meller Co. dba Meller Optics, Providence, RI; Advanced Acoustic Concepts LLC, Hauppauge, NY; Advanced Systems Supportability Engineering Technologies and Tools, Inc. (ASSETT), Manassas, VA; Aerojet Rocketdyne, Inc., Huntsville, AL; Alion Science and Technology Corporation, Burr Ridge, IL; AMETEK SCP, Westerly, RI; AMSEC, LLC, Virginia Beach, VA; ANDRO Computational Solutions LLC, Rome NY; Applied Physical Sciences Corp., Groton, CT; Applied Research in Acoustics LLC (dba ARiA), Washington, DC; Applied Technical Systems, Inc. (ATS), Silverdale, WA; Aquabotix Technology Corporation, Fall River, MA; Arete Associates, Northridge, CA; Arnold Magnetic Technologies Corporation, Rochester, NY; Atlantic Diving Supply, Inc. (ADS), Virginia Beach, VA; ATLAS North America (ANA), Yorktown, VA; BAE Systems Information and Electronic Systems Integration, Inc., Hudson, NH; BAE Systems Technology Solutions & Services, Inc., Rockville, MD; Barber-Nichols, Inc., Arvada, CO; Battelle Memorial Institute, Columbus, OH; Blue Institute Labs dba Blue Incubator PBC, Plymouth, MA; Blue Ridge Envisioneering, Chantilly, VA; BlueHaptics, Inc. dba Olis Robotics, Seattle, WA; Booz Allen Hamilton, Inc., McLean, VA; Cardinal Engineering LLC, Annapolis, MD; CeraNova Corporation, Marlborough, MA; Clear Carbon and Components, Inc., Bristol, RI; Creare, LLC, Hanover, NH; CSA Ocean Sciences, Inc., Stuart, FL; Cydecor, Inc., Arlington, VA; Daniel H. Wagner Associates, Inc., Exton, PA; DBV Technology LLC, North Kingstown, RI; Dioxide Materials, Inc., Boca Raton, FL; Dive Technologies, Inc., Hingham, MA; DRS Power Technology, Inc. dba Leonardo DRS, Fitchburg, MA; EaglePicher Technologies, St. Louis, MO; EdgeOne LLC dba EdgeTech, Boca Raton, FL; EpiSys Science, Inc., Poway, CA; Epsilon Systems Solutions, Inc., San Diego, CA; Evans Capacitor Company, East Providence, RI; General Atomics, San Diego, CA; General Dynamics Mission Systems, Inc., Fairfax, VA; Global Foundation for Ocean Exploration, West Redding, CT; Globe Composite Solutions Ltd., Stoughton, MA; Granite State Manufacturing, Manchester, NH; Greensea Systems, Inc., Richmond, VT; Harpoon Ventures LLC, Menlo Park, CA; Harris Corporation GCS, Palm Bay, FL; Hunter Mechanical Design LLC (HMD, LLC), Marion, MA; Hydroid, Inc., Pocasset, MA; In-Depth Engineering Corporation, Fairfax, VA; Innoveering LLC, Ronkonkoma, NY; iXblue Defense Systems, Inc., Natick, MA; Joel Drake Consulting LLC, San Diego, CA; JPAnalytics LLC, East Falmouth, MA; KMS Solutions LLC, Alexandria, VA; L3 Adaptive Methods, Inc., Centreville, VA; L3 OceanServer, Inc., Fall River, MA; LBI, Inc., Groton, CT; Left of Creative LLC, Wakefield, RI; Leidos, Inc., VA; Liquid Robotics, Inc., Sunnyvale, CA; Lockheed Martin Sippican, Inc., Marion, MA; Marine Acoustics, Inc., Middletown, RI; Marine Ventures International, Inc., Stuart, FL; Maritime Planning Associates, Inc., Newport, RI; McLaughlin Research Corporation, New London, CT; Metron, Inc., Reston, VA; MI Technical Solutions, Chesapeake, VA; Mide Technology Corporation, Medford, MA; MIKEL, Inc., Middletown, RI; Moog, Inc. Space & Defense Group, Elma, NY: MSI Transducers Corp., Littleton, MA; Nautilus Defense LLC, Pawtucket, RI; Navatek Ltd, Honolulu, HI; Navmar Applied Sciences, Warminster, PA; Northern Defense Industries LLC, Alexandria, VA; Northrop Grumman Systems Corporation, Linthicum, MD; NOVA Power Solutions, Inc., Sterling, VA; Numurus LLC, Seattle, WA; Ocean Specialists, Inc., Stuart, FL; Oceaneering International, Inc., Hanover, MD; Oewaves, Inc., Pasadena, CA; Ordnance Technology Service, Inc., Mentor, OH; Pacific Science & Engineering, Inc. (PSE), San Diego, CA; Phelps2020, Inc., Knoxville, TN; Phoenix International Holdings, Inc., Largo, MD; Physical Optics Corporation, Torrance, CA; Physical Sciences, Inc., Andover, MA; Planck Aerosystems, Inc., San Diego, CA; Polaris Contract Manufacturing, Inc., Marion, MA; PowerDocks LLC, Fall River, MA; Presco, Inc., Woodbridge, CT; Progeny Systems Corporation, Manassas, VA; Prometheus, Inc., Sharon, MA; Psionic LLC, Hampton, VA; PURVIS Systems Incorporated, Middletown, RI; QinetiQ North America, Waltham, MA; QorTek, Inc., Williamsport, PA; QUASAR Federal Systems, Inc., San Diego, CA; Radiance Technologies, Inc., Huntsville, AL; Raytheon BBN Technologies Corp., Cambridge, MA; Raytheon Company, Portsmouth, RI; Remote Sensing Solutions, Barnstable, MA; Research Associates of Syracuse, Inc., Rome, NY; Ride, Inc., West Greenwich, RI; Riptide Autonomous Solutions LLC, Plymouth, MA; Rite-Solutions, Inc., Pawcatuck, CT; SA Photonics, Inc., Los Gatos, CA; Saab Defense and Security USA, East Syracuse, NY; SCI Technology, Inc., Huntsville, AL; Science Applications International Corporation (SAIC), Reston, VA; Scientific Solutions, Inc., Nashua, NH; SeaRobotics, Inc., Stuart, FL; Sechan Electronics, Inc., Lititz, PA; Signal Systems Corporation, Millersville, MD; Soar Technology, Inc., Ann Arbor, MI; Sonalysts, Inc., Waterford, CT; Sound & Sea Technology, Inc., Lynnwood, WA; Sparton Deleon Springs LLC, Deleon Springs, FL; Spatial Integrated Systems, Inc., Virginia Beach, VA; SRC, Inc., N. Syracuse, NY; Submergence Group LLC, Chester, CT; SubSeaSail LLC, San Diego, CA; Systems & Technology Research LLC, Woburn, MA; Systems Engineering Associates Corporation (dba SEA CORP), Middletown, RI; Systems Planning and Analysis, Inc., Alexandria, VA; Tampa Deep Sea Xplorers LLC, Tampa, FL; Tech Resources, Inc., Milford, NH; Teledyne Benthos, a Business Unit of Teledyne Instruments, Inc., North Falmouth, MA; Teledyne Brown Engineering, Inc., Huntsville, AL; Tethers Unlimited, Inc., Bothell, WA; ThayerMahan, Inc., Groton, CT; The Aegis Technologies Group, Inc., Huntsville, AL; The Charles Stark Draper Laboratory, Inc., Cambridge, MA; The Metamorphosis Group, Inc., Vienna, VA; The Regents of the University of California, UC San Diego's Scripps Institution of Oceanography (UCSD), La Jolla, CA; Thornton Tomasetti, Inc., Washington, DC; Toyon Research Corporation, Goleta, CA; Transtecs Corporation, Arlington, VA; Triton Systems, Inc., Chelmsford, MA; Ultra Electronics Ocean Systems, Inc., Braintree, MA; UnderSea Sensor Systems, Inc. (USSI), Columbia City, IN; University of Florida Board of Trustees, Gainesville, FL; University of Rhode Island, Kingston, RI; Viasat, Inc., Carlsbad, CA; Visionary Products, Inc. (dba VPI Technology Group), Draper, UT; Welkins LLC, Downers Grove, IL; Woods Hole Oceanographic Institution, Woods Hole, MA; and World Wide Technology, Maryland Heights, MO.

The general area of UTIC's planned activity is conducting research, development and testing in cooperation with the Government leading to technology demonstrations in undersea and maritime technology applications and solutions through the following technology areas: Sensors and Sonar; Platform and Payload Integration; Undersea Distributed Networked Systems; Electronics/Optics/Materials; Passive Sensing; Undersea Satellites; Energy Storage and Release; Virtualization; Machine Learning; Threat Monitoring and Prediction; Cooperative Force Torpedo Defense; Undersea Warfare Analysis; Multi-Domain Fusion; Electronic Warfare; Distributed and Autonomous Sensors; USW Weapons and Autonomous Vehicles; Autonomy; Quantum Computing; Bio-Inspired Sensors; Environmental Sensing, Monitoring and Prediction; In-Situ Energy Sources; and Multi-Dimensional Display.

Suzanne Morris,
Chief, Premerger and Division Statistics Unit Antitrust Division.

[FR Doc. 2018-23984 Filed 11-1-18; 8:45 am]

BILLING CODE 4410-11-P